DEPARTMENT OF THE INTERIOR

National Park Service

[NPS-WASO-NAGPRA-20769; PPWOCRADN0-PCU00RP14.R50000]

Notice of Intent To Repatriate Cultural Items: Robert S. Peabody Museum of Archaeology, Andover, MA

AGENCY: National Park Service, Interior.

ACTION: Notice.

SUMMARY: The Robert S. Peabody Museum of Archaeology at Phillips Academy, in consultation with the appropriate Indian tribes or Native Hawaiian organizations, has determined that the cultural items listed in this notice meet the definition of sacred objects. Lineal descendants or representatives of any Indian tribe or Native Hawaiian organization not identified in this notice that wish to claim these cultural items should submit a written request to the Robert S. Peabody Museum of Archaeology. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Robert S. Peabody Museum of Archaeology at the address in this notice by May 31, 2016.

ADDRESSES: Dr. Ryan J. Wheeler, Director, The Robert S. Peabody Museum of Archaeology, Phillips Academy, 180 Main Street, Andover, MA 01810, (978) 749-4490, email rwheeler@andover.edu.

SUPPLEMENTARY INFORMATION: Notice is here given in accordance with the Native American Graves Protection and Repatriation Act (NAGPRA), 25 U.S.C. 3005, of the intent to repatriate cultural items under the control of the Robert S. Peabody Museum of Archaeology, Andover, MA, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

In August, 1909, one item of both cultural and spiritual significance was removed from the White Earth Reservation in Becker County, MN. Museum documentation indicates that Warren K. Moorehead, Curator of the Robert S. Peabody Museum of Archaeology, acquired a birch bark scroll of the Midewiwin, or Grand Medicine Society (accession number 90.225.1) of White Earth from “Bay-bah-dwub-gay-aush,” whom Moorehead's records listed as a “Shaman of the White Earth Reservation,” to be protected in the museum at Andover.

In 1908, President Theodore Roosevelt appointed Warren K. Moorehead to the Board of Indian Commissioners, the group charged with public oversight of the Bureau of Indian Affairs. After his appointment Moorehead learned from his colleagues at the Smithsonian Institution “of the dreadful situation on a dozen different reservations,” including White Earth. He asked for permission and funds to investigate, which were granted by Commissioner of Indian Affairs Francis Leupp, who appointed Moorehead special agent.

Moorehead spent time at White Earth investigating various forms of land and other theft during a period of significant economic, cultural and religious oppression. It was in this environment that numerous objects of cultural and spiritual significance were removed from Anishinaabeg communities.

Consultations were held during a December 10-11, 2015, visit by officials from the White Earth Band of the Minnesota Chippewa Tribe who affirmed cultural affiliation to the birch bark scroll. In a letter dated January 15, 2016, the White Earth Band of the Minnesota Chippewa Tribe requested the return of the scroll due to its substantial cultural and religious significance and need for continued observance of traditional ceremonies that occur annually.

Determinations Made by the Robert S. Peabody Museum of Archaeology

Officials of the Robert S. Peabody Museum of Archaeology have determined that:

• Pursuant to 25 U.S.C. 3001(3)(C), the one cultural item described above is a specific ceremonial object needed by traditional Native American religious leaders for the practice of traditional Native American religions by their present-day adherents.

• Pursuant to 25 U.S.C. 3001(2), there is a relationship of shared group identity that can be reasonably traced between the sacred object and the White Earth Band of the Minnesota Chippewa Tribe.

Additional Requestors and Disposition

Lineal descendants or representatives of any Indian tribe or Native Hawaiian organization not identified in this notice that wish to claim these cultural items should submit a written request with information in support of the claim to Dr. Ryan J. Wheeler, Director, The Robert S. Peabody Museum of Archaeology, Phillips Academy, 180 Main Street, Andover, MA 01810, (978) 749-4490, email rwheeler@andover.edu, by May 31, 2016. After that date, if no additional claimants have come forward, transfer of control of the sacred object to the White Earth Band of the Minnesota Chippewa Tribe may proceed.

The Robert S. Peabody Museum of Archaeology is responsible for notifying the White Earth Band of the Minnesota Chippewa Tribe that this notice has been published.

Dated: March 31, 2016.
Melanie O'Brien,
Manager, National NAGPRA Program.

[FR Doc. 2016-10070 Filed 4-28-16; 8:45 am]

BILLING CODE 4312-50-P